SECURITIES AND EXCHANGE COMMISSION

[SEC File No. 270-334, OMB Control No. 3235-0380]

Submission for OMB Review; Comment Request

Upon Written Request Copies Available From: Securities and Exchange Commission, Office of FOIA Services, 100 F Street NE, Washington, DC 20549-2736

Extension:

Form F-10

Notice is hereby given that, pursuant to the Paperwork Reduction Act of 1995 (44 U.S.C. 3501 et seq.), the Securities and Exchange Commission (“Commission”) has submitted to the Office of Management and Budget this request for extension of the previously approved collection of information discussed below.

Form F-10 (17 CFR 239.40) is a registration statement under the Securities Act of 1933 (15 U.S.C. 77a et seq.) that may be used by a foreign private issuer that: Is incorporated or organized in Canada; has been subject to, and in compliance with, Canadian reporting requirements for at least 12 months; and has an aggregate market value of common stock held by non-affiliates of at least $75 million. The purpose of this information collection is to permit verification of compliance with securities law requirements and assure the public availability of such information. We estimate that Form F-10 takes 28.98 hours per response and is filed by 77 respondents. We further estimate that 25% of the 28.98 hours per response (7.25 hours) is prepared by the issuer for an annual reporting burden of 558 hours (7.25 hours per response × 77 responses).

An agency may not conduct or sponsor, and a person is not required to respond to, a collection of information unless it displays a currently valid control number.

The public may view background documentation for this information collection at the following website: www.reginfo.gov. Find this particular information collection by selecting “Currently under 30-day Review—Open for Public Comments” or by using the search function. Written comments and recommendations for the proposed information collection should be sent within 30 days of publication of this notice to (i) www.reginfo.gov/public/do/PRAMain and (ii) David Bottom, Director/Chief Information Officer, Securities and Exchange Commission,c/o Cynthia Roscoe, 100 F Street NE, Washington, DC 20549, or by sending an email to: PRA_Mailbox@sec.gov.

Dated: July 15, 2021.
J. Matthew DeLesDernier,
Assistant Secretary.

[FR Doc. 2021-15431 Filed 7-20-21; 8:45 am]

BILLING CODE 8011-01-P